DEPARTMENT OF EDUCATION

Notice of Proposed Information Collection Requests

AGENCY: Department of Education.

ACTION: Comment Request.

SUMMARY: The Department of Education (the Department), in accordance with the Paperwork Reduction Act of 1995 (PRA) (44 U.S.C. 3506(c)(2)(A)), provides the general public and Federal agencies with an opportunity to comment on proposed and continuing collections of information. This helps the Department assess the impact of its information collection requirements and minimize the reporting burden on the public and helps the public understand the Department's information collection requirements and provide the requested data in the desired format. The Director, Information Collection Clearance Division, Regulatory Information Management Services, Office of Management, invites comments on the proposed information collection requests as required by the Paperwork Reduction Act of 1995.

DATES: Interested persons are invited to submit comments on or before January 18, 2011.

ADDRESSES: Comments regarding burden and/or the collection activity requirements should be electronically mailed to ICDocketMrg@ed.gov or mailed to U.S. Department of Education, 400 Maryland Avenue, SW., LBJ, Washington, DC 20202-4537. Please note that written comments received in response to this notice will be considered public records.

SUPPLEMENTARY INFORMATION: Section 3506 of the Paperwork Reduction Act of 1995 (44 U.S.C. Chapter 35) requires that Federal agencies provide interested parties an early opportunity to comment on information collection requests. The Director, Information Collection Clearance Division, Regulatory Information Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: November 10, 2010.
Darrin A. King,
Director, Information Collection Clearance Division, Regulatory Information Management Services, Office of Management.

Office of Innovation and Improvement

Type of Review: New.

Title of Collection: National Charter School Resource Center Authorizer Survey.

OMB Control Number: Pending.

Agency Form Number(s): N/A.

Frequency of Responses: On occasion.

Affected Public: Not-for-profit institutions.

Total Estimated Number of Annual Responses: 900.

Total Estimated Number of Annual Burden Hours: 2,025.

Abstract: The U.S. Department of Education has as one of its important policy goals expanding the number of high-quality public school choice options. Specifically, according to Part B section 5201 of the Elementary and Secondary Education Act, two of the established purposes of the Charter School Program office are: Evaluating the effects of charter schools, including the effects on students, student academic achievement, staff and parents; and expanding the number of high-quality charter schools available to students across the nation.

Charter school authorization is the center of efforts to expand and ensure high-quality public school choice options through public charter schools. Charter school authorizers are the public entities primarily responsible for: Initial charter authorizations, on-going monitoring and oversight, and charter renewal and closure decisions. Currently there is not a comprehensive, fully-populated tool for tracking the activities of and evaluating the quality of authorizers nationwide based on their authorizing decisions in light of schools' performance.

The charter authorizer survey will be the key tool by which the National Charter School Resource Center collects the following data elements from the nation's charter school authorizers: Authorizing agency; authorizing agency type (e.g., school district, State Educational Agency, independent authorizer), basic school information, year the school opened, past renewal decision(s), reasons for nonrenewal (if applicable), year closed (if applicable), reason for closure (if applicable), and the next renewal decision year. The charter school authorizer survey will be administered once annually, in the spring. Respondents will be able to complete and return the survey in paper form or electronically, by visiting a link stated on the paper form.

Requests for copies of the proposed information collection request may be accessed from http://edicsweb.ed.gov, by selecting the “Browse Pending Collections” link and by clicking on link number 4445. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

[FR Doc. 2010-28867 Filed 11-15-10; 8:45 am]

BILLING CODE 4000-01-P